DEPARTMENT OF TRANSPORTATION

Coast Guard

[USCG 2002-12916]

National Offshore Safety Advisory Committee; Vacancies

AGENCY: Coast Guard, DOT.

ACTION: Request for applications.

SUMMARY: The Coast Guard is seeking applications for membership on the National Offshore Safety Advisory Committee (NOSAC). NOSAC provides advice and makes recommendations to the Coast Guard on matters affecting the offshore industry.

DATES: Applications should reach us on or before September 30, 2002.

ADDRESSES: You may request an application form by writing to Commandant (G-MSO-2), U.S. Coast Guard, 2100 Second Street SW., Washington, DC 20593-0001; by calling 202 267-1181; or by faxing 202-267-4570. A copy of the application form is available from the Coast Guard's Advisory Committee Web page at: http://www.uscg.mil/hq/g-m/advisory/index.htm. Send your application in written form to the above street address. This notice and an application form are available on the Internet at http://dms.dot.gov.

FOR FURTHER INFORMATION CONTACT: Captain M.W. Brown, Executive Director of NOSAC, or James M. Magill, Assistant to the Executive Director, telephone 202 267-1181, fax 202 267-4570.

SUPPLEMENTARY INFORMATION: NOSAC is a Federal advisory committee under 5 U.S.C. App. 2. It consists of 14 regular members who have particular knowledge and experience regarding offshore technology, equipment, safety and training and environmental expertise in the exploration or recovery of offshore mineral resources. It provides advice and makes recommendations to the Assistant Commandant for Marine Safety, Security and Environmental Protection on safety and rulemaking matters relating to the offshore mineral and energy industries. This advice assists us in formulating the positions of the United States in advance of meetings of the International Maritime Organization.

NOSAC meets twice a year, with one of these meetings being held at Coast Guard Headquarters in Washington, DC. It may also meet for extraordinary purposes. Subcommittees and working groups may meet to consider specific problems as required.

We will consider applications for five positions that expire or become vacant in January 2003. To be eligible, applicants should have experience in one of the following categories: (1) Offshore supply vessel services including geophysical services, (2) offshore operations, (3) construction of offshore facilities, (4) offshore production of petroleum, or (5) offshore drilling. Please state on the application form which of the five categories you are applying for. Each member normally serves a term of 3 years or until a replacement is appointed. A few members may serve consecutive terms. All members serve at their own expense and receive no salary, reimbursement of travel expenses, or other compensation from the Federal Government.

In support of the policy of the U.S. Department of Transportation on gender and ethnic diversity, the Coast Guard encourages applications from qualified women and minority group members.

Applicants selected may be required to complete a Confidential Financial Disclosure Report (OGE Form 450). We may not release the report or the information in it to the public, except under an order issued by a Federal court or as otherwise provided under the Privacy Act (5 U.S.C. 552a).

Dated: July 24, 2002.
Joseph J. Angelo,
Director of Standards, Marine Safety, Security and Environmental Protection.

[FR Doc. 02-19547 Filed 8-1-02; 8:45 am]

BILLING CODE 4910-15-P